DEPARTMENT OF ENERGY

Federal Energy Regulatory Commission

[Project No. 2348-050]

Midwest Hydro, LLC; Notice of Intent To Prepare an Environmental Assessment

On August 30, 2022, Midwest Hydro, LLC filed a relicense application for a subsequent license to continue operating the 0.48-megawatt Beloit Hydroelectric Project No. 2348 (Beloit Project). The project is located on the Rock River, near the City of Beloit in Rock County, Wisconsin.

In accordance with the Commission's regulations, on December 4, 2024, Commission staff issued a notice that the Beloit Project was ready for environmental analysis (REA notice). Based on the information in the record, including comments filed on the REA Notice, staff does not anticipate that licensing the Beloit Project would constitute a major federal action significantly affecting the quality of the human environment. Therefore, staff intends to prepare an Environmental Assessment (EA) on the application to relicense the Beloit Project.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | February 2026.¹
Comments on EA | March 2026.

Any questions regarding this notice may be directed to Laura Washington at Laura.Washington@ferc.gov or call at 202-502-6072.

¹ For tracking purposes under the National Environmental Policy Act, the unique identification number for documents relating to this environmental review is EAXX-019-20-000-1740141395.

Dated: February 25, 2025.
Debbie-Anne A. Reese,
Secretary.

[FR Doc. 2025-03429 Filed 3-3-25; 8:45 am]

BILLING CODE 6717-01-P